DEPARTMENT OF DEFENSE

Office of the Secretary

32 CFR Part 105

[Docket ID: DoD-2019-OS-0084]

RIN 0790-AK82

Sexual Assault Prevention and Response Program Procedures

AGENCY: Office of the Secretary, DoD.

ACTION: Final rule.

SUMMARY: This final rule removes the Department of Defense's (DoD's) duplicative regulation concerning the Sexual Assault Prevention and Response Program (SAPR) Procedures. On July 15, 2020, DoD published a single revised DoD-level SAPR Program rule, which finalized two previously published interim final rules. The revision deleted all guidance internal to DoD and incorporated from this part those policy provisions directly affecting DoD's obligations to provide sexual assault prevention and response (SAPR) services to certain members of the public who are adult victims of sexual assault. Therefore, this part is now unnecessary and may be removed from the CFR.

DATES: This rule is effective on September 17, 2020.

FOR FURTHER INFORMATION CONTACT: Diana Rangoussis, Senior Policy Advisor, Sexual Assault Prevention and Response Office (SAPRO), (571)372-2648.

SUPPLEMENTARY INFORMATION: DoD now has a single sexual assault prevention and response (SAPR) rule at 32 CFR part 103 (85 FR 42707-42724) that incorporates those policy provisions from 32 CFR part 105 that directly affect DoD's obligations to provide SAPR services to certain members of the public who are adult victims of sexual assault. 32 CFR 103 will be the only part that outlines the Department's obligations to provide SAPR services to certain members of the public. The content of 32 CFR part 105, “Sexual Assault Prevention and Response Program Procedures,” last updated on September 27, 2016 (81 FR 66427), is no longer required and can be removed.

It has been determined that publication of this CFR part removal for public comment is impracticable, unnecessary, and contrary to public interest since it is based on the removal of policies and procedures that are now reflected in another CFR part, 32 CFR part 103, or are publicly available on the Department's website. The Department's internal policies and procedures are published in DoD Directive 6495.01, “Sexual Assault Prevention and Response (SAPR) Program” (last updated April 11, 2017, and available at http://www.esd.whs.mil/Portals/54/Documents/DD/issuances/dodd/649501p.pdf), and DoD Instruction 6495.02, “Sexual Assault Prevention and Response (SAPR) Program Procedures,” (last updated May 24, 2017, and available at http://www.esd.whs.mil/Portals/54/Documents/DD/issuances/dodi/649502p.pdf).

This rule is not significant under Executive Order (E.O.) 12866, “Regulatory Planning and Review.” Therefore, E.O. 13771, “Reducing Regulation and Controlling Regulatory Costs,” does not apply.

List of Subjects in 32 CFR Part 105

Crime, Health, Military personnel, Reporting and recordkeeping requirements.

PART 105—[REMOVED]

Accordingly, by the authority of 5 U.S.C. 301, 32 CFR part 105 is removed.

Dated: August 17, 2020.
Aaron T. Siegel,
Alternate OSD Federal Register Liaison Officer, Department of Defense.

[FR Doc. 2020-18338 Filed 9-16-20; 8:45 am]

BILLING CODE 5001-06-P